DEPARTMENT OF TRANSPORTATION

National Highway Traffic Safety Administration

[Docket No. NHTSA-2002-13019; Notice 2]

Decision that Nonconforming 2003 Harley Davidson VRSCA Motorcycles Are Eligible for Importation

AGENCY: National Highway Traffic Safety Administration (NHTSA), DOT.

ACTION: Notice of decision by NHTSA that nonconforming 2003 Harley Davidson VRSCA motorcycles are eligible for importation.

SUMMARY: This document announces the decision by NHTSA that 2003 Harley Davidson VRSCA motorcycles that were not originally manufactured to comply with all applicable Federal motor vehicle safety standards are eligible for importation into the United States because they are substantially similar to vehicles that were originally manufactured for sale in the United States and that were certified by their manufacturer as complying with the safety standards (the U.S. certified versions of the 2003 Harley Davidson VRSCA motorcycles), and they are capable of being readily altered to conform to the standards.

DATE: This decision is effective as of the date of its publication in the Federal Register.

FOR FURTHER INFORMATION CONTACT: Luke Loy, Office of Vehicle Safety Compliance, NHTSA (202-366-5308).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Milwaukee Motorcycle Imports, Inc. of Milwaukee, Wisconsin (“MMI”)(Registered Importer 99-192) petitioned NHTSA to decide whether non-U.S. certified 2003 Harley Davidson VRSCA motorcycles are eligible for importation into the United States. NHTSA published notice of the petition on August 26, 2002 (67 FR 54839) to afford an opportunity for public comment. The reader is referred to that document for a thorough description of the petition.

One comment was received in response to the notice of petition, from Harley-Davidson Motor Company, the manufacturer of the vehicles in question. In this comment, Harley-Davidson stated that it agreed with the petitioner's claims that non-U.S. certified 2003 Harley Davidson VRSCA motorcycles are identical to their U.S. certified counterparts with respect to compliance with Standard Nos. 106 Brake Hoses, 111 Rearview Mirrors, 116 Brake Fluid, 119 New Pneumatic Tires for Vehicles other than Passenger Cars, 122 Motorcycle Brake Systems, and 205 Glazing Materials. Harley-Davidson also expressed agreement with the petitioner's statement that vehicle identification number plates that meet the requirements of 49 CFR part 565 are already affixed to non-U.S. certified 2003 Harley Davidson VRSCA motorcycles and that each vehicle's 17-digit VIN is stamped onto its headstock at the time of manufacture.

Harley-Davidson also agreed with the petitioner's description of modifications that would have to be performed on the vehicles to bring them into compliance with Standard Nos. 120 Tire Selection and Rims for Vehicles other than Passenger Cars, and 123 Motorcycle Controls and Displays. With respect to the latter standard, Harley-Davidson noted that the installation of a new odometer on the vehicles would trigger the odometer disclosure requirements of 49 CFR part 580. After it was accorded an opportunity to address this comment, MMI informed the agency that after the new odometer is installed, an odometer disclosure label is permanently affixed to the frame of the motorcycle. MMI further observed that the person selling the vehicle would be responsible for completing the odometer disclosure statement required by the regulations in 49 CFR part 580.

Harley-Davidson directed the bulk of its comments to the petitioner's description of modifications that would need to be performed to conform the vehicles to Standard No. 108 Lamps, Reflective Devices and Associated Equipment. The petition stated that these modifications would include: (a) Installation of U.S. model headlamp assemblies which incorporate headlamps that are certified to meet the standard; (b) replacement of all stop lamp and directional signal bulbs with bulbs that are certified to meet the standard; (c) replacement of all lenses with lenses that are certified to meet the standard; and (d) replacement of all rear reflectors with red reflectors that are certified to meet the standard. The petition further stated that although there are no daytime running lights on non-U.S. certified versions of the vehicle, their headlamps and tail lamps are activated when the ignition is turned on.

In its comment, Harley-Davidson stated that the full headlamp assembly (lens, bulbs, and reflector) and the full stop/tail lamp unit (lens, bulb, and reflector) for non-domestic vehicles, other than those intended for sale in Canada, are not compliant with Standard No. 108. Harley-Davidson further observed that the directional signals on non-U.S. certified versions of the vehicle are slightly different than those on its U.S. certified counterpart. Harley-Davidson remarked that although the lenses for all vehicles are the same, the reflectors and bulbs on non-domestic vehicles, except those intended for sale in Canada, are not. Harley-Davidson also agreed that all rear reflectors on non-domestic vehicles, except those intended for sale in Canada, will have to be replaced with red reflectors that are certified to meet the standard. Harley-Davidson further remarked that the license plate/rear reflector component mounting unit for non-domestic models, except those intended for sale in Canada, do not meet the illumination requirements of the standard. With respect to daytime running lights, Harley-Davidson stated that it does not market vehicles anywhere that are capable of meeting requirements for that equipment, but that the headlamps and tail lamps on its vehicles do burn when then the ignition is on. Harley-Davidson stated that all of its domestic and Canadian-market vehicle have amber positioning lamps incorporating the lower filament of the two-filament front directional signal bulbs.

In its response to these comments, MMI noted that it had already stated in the petition that the a U.S.-model headlamp assembly, which includes a lens, bulb, and reflector, will have to be installed on non-U.S. certified versions of the vehicle to comply with Standard No. 108. MMI further asserted that insofar as the stop/tail lamp, directional signals, and lenses are concerned, replacement of these units with U.S.-model parts will meet the requirements of the standard. MMI further contended that replacement of the non-domestic license plate/rear reflector with U.S.-model components will meet the illumination requirements of the standard.

In consideration of the foregoing, NHTSA has decided to grant the petition.

Vehicle Eligibility Number for Subject Vehicles

The importer of a vehicle admissible under any final decision must indicate on the form HS-7 accompanying entry the appropriate vehicle eligibility number indicating that the vehicle is eligible for entry. VSP-394 is the vehicle eligibility number assigned to vehicles admissible under this notice of final decision.

Final Decision

Accordingly, on the basis of the foregoing, NHTSA hereby decides that 2003 Harley Davidson VRSCA motorcycles that were not originally manufactured to comply with all applicable Federal motor vehicle safety standards are substantially similar to 2003 Harley Davidson VRSCA motorcycles originally manufactured for sale in the United States and certified under 49 U.S.C. 30115, and are capable of being readily altered to conform to all applicable Federal motor vehicle safety standards.

Authority: 49 U.S.C. 30141(a)(1)(A) and (b)(1); 49 CFR 593.8; delegations of authority at 49 CFR 1.50 and 501.8.

Issued on: October 28, 2002.
Marilynne Jacobs,
Director, Office of Vehicle Safety Compliance.

[FR Doc. 02-27724 Filed 10-30-02; 8:45 am]

BILLING CODE 4910-59-P